DEPARTMENT OF THE INTERIOR

Bureau of Land Management

[LLCAD09000, L51010000.LVRWB09B2380.FX0000]

Notice of Availability of a Final Environmental Impact Statement and Environmental Impact Report for the Proposed Stateline Solar Farm and Proposed California Desert Conservation Area Plan Amendment

AGENCY: Bureau of Land Management, Interior.

ACTION: Notice of availability.

SUMMARY: In accordance with the National Environmental Policy Act of 1969, as amended, and the Federal Land Policy and Management Act of 1976 (FLPMA), as amended, the Bureau of Land Management (BLM) has prepared a Proposed California Desert Conservation Area (CDCA) Plan Amendment and a Final Environmental Impact Statement (EIS) and Draft Environmental Impact Report (EIR) for the Stateline Solar Farm Project (SSFP) and by this notice is announcing its availability.

DATES: BLM planning regulations state that any person who meets the conditions as described in the regulations may protest the BLM's Proposed CDCA Amendment. A person who meets the conditions and files a protest must file the protest within 30 days of the date that the Environmental Protection Agency publishes its Notice of Availability in the Federal Register.

ADDRESSES: Copies of the SSFP Final EIS and Proposed CDCA Plan Amendment have been sent to affected Federal, State, and local government agencies and to other stakeholders. Copies of the SSFP Final EIS and Proposed CDCA Plan Amendment are available for public inspection at the BLM Needles Field Office and California Desert District Office. Interested persons may also review the SSFP Final EIS and Proposed CDCA Plan Amendment on the Internet at http://www.blm.gov/ca/st/en/fo/cdd.html. All protests must be in writing and mailed to one of the following addresses:

Regular Mail: BLM Director (210), Attention: Brenda Williams, P.O. Box 71383, Washington, DC 20024-1382.

Overnight Delivery: BLM Director (210), Attention: Brenda Williams, 20 M Street SE., Room 2134LM, Washington, DC 20003.

FOR FURTHER INFORMATION CONTACT: Jeffery Childers, Project Manager; telephone 951-697-5308; address BLM California Desert District Office, 22835 Calle San Juan de Los Lagos, Moreno Valley, California 92553-9046; email jchilders@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: First Solar Development, Inc. (First Solar) has requested a right-of-way (ROW) authorization to construct, operate, maintain and decommission the 300-megawatt (MW) photovoltaic SSFP from the BLM and a well permit from the County of San Bernardino. The BLM is responding to the ROW application as required by FLPMA. The proposed project located on BLM-administered lands would include access roads, photovoltaic arrays, electrical substation, meteorological station, monitoring and maintenance facility, water wells, and a 2.3 mile generation tie-line on up to 2,143 acres. The project location is in San Bernardino County approximately 2 miles south of the Nevada-California border and 0.5 miles west of Interstate 15.

The BLM's purpose and need for the SSFP is to respond to First Solar's application for a ROW grant to construct, operate, maintain, and decommission a photovoltaic solar energy facility on public lands in compliance with FLPMA, BLM ROW regulations, and other applicable Federal laws. The BLM will decide whether to grant, grant with modification, or deny a ROW to First Solar for the proposed SSFP. The CDCA Plan (1980, as amended), while recognizing the potential compatibility of solar energy generation facilities with other uses on public lands, requires that all sites proposed for power generation or transmission not already identified in the plan be considered through the plan amendment process. The BLM is proposing to amend the CDCA Plan by designating the project area as either suitable or unsuitable for solar energy projects. In addition to the proposed action, which is analyzed as Alternative 1: 300 MWs on 2,143 acres, the BLM is analyzing three other project alternatives: Alternative 2: 300 MW on 2,385 acres; Revised Alternative 3: 300 MW on 1,685 acres; and, Alternative 4: 232 MW generated on 1,766 acres. All project alternatives also analyze an expansion of the Ivanpah Desert Wildlife Management Area (DWMA). The management prescriptions for the Ivanpah DWMA are defined in Appendix A, Section A.2, of the Northern and Eastern Mojave Desert Management Plan Amendment to the California Desert Conservation Area Plan (July 2002). If the DWMA is expanded, these management prescriptions will be applied to the expansion.

The Proposed Plan Amendment and Final EIS/EIR also analyzes three No Project alternatives: Alternative 5: No Action; Alternative 6: No Project, Amend the CDCA Plan to find the Project area unsuitable for solar development; and Alternative 7: No Project, Amend the CDCA Plan to find the Project area suitable for solar development. The Final EIS/EIR and CDCA Plan Amendment evaluates the potential impacts of the proposed SSFP on air quality and greenhouse gas emissions; biological resources; cultural resources; special status species; geology and soils; hazards and hazardous materials; hydrology and water quality; land use; noise; recreation; traffic; visual resources; lands with wilderness characteristics; cumulative effects and areas with high potential for renewable energy development.

Comments on the Draft EIS/EIR and CDCA Plan Amendment received from the public and internal BLM review were considered and incorporated as appropriate into the Final EIS/EIR and Proposed Plan Amendment. Public comments resulted in modification of Alternative 3, now evaluated in the Final EIS/EIR as Revised Alternative 3. However, the public comments did not significantly change proposed land use plan decisions. Instructions for filing a protest with the Director of the BLM regarding the Proposed Plan Amendment may be found in the “Dear Reader” letter of the SSFP Final EIS/EIR and Proposed Plan Amendment and at 43 CFR 1610.5-2. All protests must be in writing and mailed to the appropriate address, as set forth in the ADDRESSES section above. Emailed protests will not be accepted as valid protests unless the protesting party also provides the original letter by either regular mail or overnight delivery postmarked by the close of the protest period. Under these conditions, the BLM will consider the email as an advance copy and it will receive full consideration. If you wish to provide the BLM with such advance notification, please direct emails to bhudgens@blm.gov.

Before including your phone number, email address, or other personal identifying information in your protest, you should be aware that your entire protest—including your personal identifying information—may be made publicly available at any time. While you can ask us in your protest to withhold your personal identifying information from public review, we cannot guarantee that we will be able to do so.

Authority: 40 CFR 1506.6, 40 CFR 1506.10, 43 CFR 1610.2.

Thomas Pogacnik,
Deputy State Director, Natural Resources.

[FR Doc. 2013-27416 Filed 11-14-13; 8:45 am]

BILLING CODE 4310-40-P